DEPARTMENT OF DEFENSE

Defense Representative Guam, Commonwealth of the Northern Mariana Islands, Federated States of Micronesia and Republic of Palau; Notice of Public Hearings for the Mariana Islands Range Complex Draft Environmental Impact Statement/Overseas Environmental Impact Statement

AGENCY: Department of Defense Representative Guam, Commonwealth of the Northern Mariana Islands, Federated States of Micronesia and Republic of Palau.

ACTION: Notice.

SUMMARY: Pursuant to section 102(2)(c) of the National Environmental Policy Act (NEPA); the Council of Environmental Quality (CEQ) Regulations for implementing the procedural provisions of NEPA (Title 40 Code of Federal Regulations [CFR] Parts 1500-1508); and Executive Order (EO) 12114, Environmental Effects Abroad of Major Federal Actions, on behalf of the Department of Defense Representative Guam, Commonwealth of the Northern Mariana Islands, Federated States of Micronesia and Republic of Palau (DoD REP), the U.S. Navy (Navy) has prepared and filed with the U.S. Environmental Protection Agency a Draft Environmental Impact Statement/Overseas Environmental Impact Statement (EIS/OEIS) for the Mariana Islands Range Complex (MIRC) for public release on January 30, 2009.

The National Marine Fisheries Service (NMFS), the U.S. Department of the Interior, Office of Insular Affairs, the Federal Aviation Administration, the United States Marine Corps, and the United States Air Force (USAF) are cooperating agencies in the preparation of this EIS/OEIS.

The Draft EIS/OEIS evaluates the potential environmental impacts associated with the military readiness training; research, development, testing, and evaluation (RDT&E) activities; and associated range capabilities enhancements within the existing MIRC. A Notice of Intent for this Draft EIS/OEIS was published in the Federal Register on June 1, 2007 (72 FR 30557).

The Navy will conduct five public hearings to receive oral and written comments on the Draft EIS/OEIS. Federal agencies, state agencies, and local agencies and interested individuals are invited to be present or represented at the public hearings. This notice announces the dates and locations of the public hearings for this Draft EIS/OEIS.

DATES AND ADDRESSES: An open house session will start before the scheduled public hearing at each of the locations listed below and will allow individuals to review the information presented in the MIRC Draft EIS/OEIS. DoD REP, Navy and USAF representatives will be available during the open house sessions to clarify information related to the Draft EIS/OEIS. All meetings will include an open house session from 5 p.m. to 9 p.m. and a formal presentation and public comment period from 7 p.m. to 9 p.m. Public hearings will be held on the following dates and at the following locations:

1. Thursday, February 19, 2009, at the Jesus & Eugenia Leon Guerrero School of Business and Public Administration Building, The Anthony Leon Guerrero Multi-Purpose Room 129, University of Guam, Mangilao, Guam;

2. Friday, February 20, 2009, at the Southern High School Cafeteria, #1 Jose Perez Leon Guerrero Drive, Santa Rita, Guam;

3. Monday, February 23, 2009, at the Multi-Purpose Center in Susupe, Saipan;

4. Tuesday, February 24, 2009, at the Tinian Elementary School Cafeteria, San Jose Village, Tinian;

5. Thursday, February 26, 2009, at the Sinapolo Elementary School Cafeteria, Sinapolo, Rota.

FOR FURTHER INFORMATION CONTACT: Mariana Islands Range Complex EIS, 258 Makalapa Drive, Suite 100, Attn: EV2, Pearl Harbor, HI 96860-3134; e-mail at: marianas.tap.eis@navy.mil.

SUPPLEMENTARY INFORMATION: The MIRC Study Area is located in the Western Pacific (WESTPAC) and consists of three primary components: ocean surface and undersea areas; special use airspace (SUA); and training land areas. For the purposes of this EIS/OEIS, the MIRC and the Study Area are the same geographical areas consisting of land areas and offshore areas off the coast of Guam and the Commonwealth of Northern Mariana Islands (CNMI). The ocean surface and undersea areas of the MIRC extend from the international waters south of Guam to north of Pagan, CNMI, and from the Pacific Ocean east of the Mariana Islands to the middle of the Philippine Sea to the west, encompassing 501,873 square nautical miles of open ocean and littorals (coastal areas).

The MIRC Study Area does not include the sovereign territory (including waters out to 12 nautical miles) of the Federated States of Micronesia. Portions of the Marianas Trench Marine National Monument, which was established in January 2009 by Presidential Proclamation under the authority of the Antiquities Act (16 U.S.C. 431), lie within the Study Area. The range complex includes land ranges and training area/facilities on Guam, Rota, Tinian, Saipan, and Farallon de Medinilla (FDM), encompassing 64 square nautical miles of land. SUA consists of Warning Area 517 (W-517), restricted airspace over FDM (R-7201), and Air Traffic Control Assigned Airspace encompassing 63,000 square nautical miles of airspace.

The MIRC is used to support tactical training by the U.S. Military Services (Services), including Army, Navy, Marine Corps, Air Force, Coast Guard, Army Reserves, and Guam National Guard, in the WESTPAC Theater. The proposed action does not involve extensive changes to MIRC facilities, operations, training, or RDT&E capacities. Rather, the proposed action would result in relatively small-scale but critical enhancements to the MIRC that are necessary if the Services are to maintain a state of military readiness commensurate with their national defense mission. The recommended range enhancements, as well as current and future training and testing operations, that have the potential to impact the environment, are the primary focus of the EIS/OEIS.

The purpose for the Proposed Action is to achieve and maintain military readiness using the MIRC to support and conduct current, emerging, and future training and RDT&E activities while enhancing training resources through investment in the ranges.

The need for the Proposed Action is to enable the Services to meet their statutory responsibility to organize, train, equip, and maintain combat-ready forces and to successfully fulfill their current and future global mission of winning wars, deterring aggression, and maintaining freedom of the seas. Activities involving RDT&E are an integral part of this readiness mandate. In this regard, the MIRC furthers the Services' execution of their Congressionally-mandated roles and responsibilities under Title 10 U.S.C. 5062.

To implement this Congressional mandate, the Services need to: (1) Maintain mandated levels of military readiness training in the MIRC; (2) accommodate future increases in training tempo on existing ranges and adjacent air and ocean areas in the MIRC and support the rapid employment of military units or strike groups; (3) achieve and sustain readiness so that the Services can quickly surge required combat power in the event of a national crisis or contingency operation consistent with Service training requirements and airspace requirements for the deployment of future live fire ranges; (4) support the acquisition, testing, training, and fielding of advanced platforms and weapons systems into Service force structure; and, (5) maintain the long-term viability of the MIRC while protecting human health and the environment and enhancing the quality of training, communications and safety within the range complex.

Alternatives in this EIS/OEIS were evaluated to ensure they met the purpose and need, giving due consideration to range complex attributes such as the capability to support current and emerging training and RDT&E requirements; the capability to support realistic, essential training at the level and frequency sufficient to support the Tactical Training Theater Assessment and Planning Program (TAP); and the capability to support training requirements while following Service Personnel Tempo of Operations guidelines.

The three alternatives analyzed in this EIS/OEIS are: the No Action Alternative—Current training activities; Alternative 1—Increase training, modernization and upgrades; and Alternative 2—Increase major at-sea exercises and training.

The No Action Alternative will continue training and RDT&E activities of the same types, and at the same levels of training intensity as currently conducted, without change in the nature or scope of military activities in the EIS/OEIS study area.

Alternative 1, the Preferred Alternative, is a proposal designed to meet the Services' current and near-term operational training requirements. This is the Preferred Alternative, because it would meet all near-term training requirements by increasing training activities, as a result of upgrades and modernization of existing training areas, and increasing the number of exercises. This alternative also includes increased activities due to meeting new training and capability requirements for personnel and platforms.

Implementation of Alternative 2 would include all the actions proposed for MIRC, including the No Action Alternative and Alternative 1, and new activities related to additional major at-sea exercises.

The decision to be made by the DoD REP is to determine which of the alternatives analyzed in the EIS/OEIS best meets the needs of the Services given that all reasonably foreseeable environmental impacts have been considered.

The Draft EIS/OEIS addresses potential environmental impacts on multiple resources, including but not limited to: water resources; air quality; marine mammals; sea turtles; fish and essential fish habitat; seabirds and shorebirds; cultural resources; regional economy; and public health and safety. The Draft EIS/OEIS identifies aspects of the proposed action that could act as stressors to these resources. The stressors considered for analysis of potential environmental consequences include but are not limited to: Vessel movements; aircraft overflights; non-explosive practice munitions; sonar; and underwater detonations and high explosive ordnance.

No significant impacts are identified for any resource area in any geographic location within the MIRC Study Area that cannot be mitigated, with the exception of exposure of marine mammals to underwater sound. The Navy has requested from NMFS a Letter of Authorization in accordance with the Marine Mammal Protection Act to authorize the incidental take of marine mammals that may result from the implementation of the activities analyzed in the MIRC Draft EIS/OEIS. In accordance with section 7 of the Endangered Species Act, the Navy is consulting with NMFS and U.S. Fish and Wildlife Service for potential impacts to federally listed species.

The MIRC Draft EIS/OEIS has been distributed to Federal, State, and local agencies, elected officials, and other interested individuals and organizations. In addition, copies of the Draft EIS/OEIS are available for public review at the following libraries: University of Guam Robert F. Kennedy Memorial Library, Government Documents Tan Siu Lin Building, UOG Station, Mangilao, GU 96923; Nieves M. Flores Memorial Library, 254 Martyr Street, Hagätna, GU 96910; Rota Public Library, P.O. Box 879, Rota, MP 96951; Joeten-Kiyu Public Library, P.O. Box 501092, Saipan, MP 96950; and Northern Marianas College Public Library, P.O. Box 459, Tinian, MP 96952.

The Draft EIS/OEIS is also available for electronic public viewing or download at http://www.MarianasRangeComplexEIS.com. A paper copy of the Executive Summary or a single CD with the Draft EIS/OEIS will be made available upon written request by contacting Mariana Islands Range Complex EIS, 258 Makalapa Drive, Suite 100, Attn: EV2, Pearl Harbor, HI 96860-3134; e-mail at: marianas.tap.eis@navy.mil.

Written comments can be submitted during the open house sessions. Oral statements will be heard and transcribed by a stenographer during the hearing sessions; however, to ensure the accuracy of the record, all statements should be submitted in writing. All statements, both oral and written, will become part of the public record on the Draft EIS/OEIS and will be addressed in the Final EIS/OEIS. Equal weight will be given to both oral and written statements. In the interest of available time, and to ensure all who wish to give an oral statement have the opportunity to do so, each speaker's comments will be limited to three (3) minutes.

If a long statement is to be presented, it should be summarized at the public hearing with the full text submitted either in writing at the hearing; mailed to Mariana Islands Range Complex EIS, 258 Makalapa Drive, Suite 100, Attn: EV2, Pearl Harbor, HI 96860-3134; or e-mailed to marianas.tap.eis@navy.mil. In addition, comments may be submitted on-line at http://www.Maria nasRangeComplexEIS.com during the comment period. All written comments must be postmarked by March 16, 2009, to ensure they become part of the official record. All timely comments will be addressed in the Final EIS/OEIS.

Dated: January 16, 2009.
A.M. Vallandingham,
Lieutenant Commander, Judge Advocate General's Corps, U.S. Navy, Federal Register Liaison Officer.

[FR Doc. E9-2048 Filed 1-29-09; 8:45 am]

BILLING CODE 3810-FF-P